DEPARTMENT OF LABOR

Employment and Training Administration

[TA-W-50,865]

FiberMark, Inc., Rochester, MI; Notice of Termination of Investigation

Pursuant to section 221 of the Trade Act of 1974, as amended, an investigation was initiated on February 12, 2003 in response to a worker petition filed by a State agency representative on behalf of workers at FiberMark, Inc., Rochester, Michigan.

The Department issued a negative determination applicable to the petitioning group of workers on June 27, 2002 (TA-W-41,259). That petition determination covered the time period prior to and subsequent to the plant closing in April 2002. Consequently, further investigation in this case would serve no purpose, and the investigation has been terminated.

Signed at Washington, DC, this 28th day of February, 2003.
Linda G. Poole,
Certifying Officer, Division of Trade Adjustment Assistance.

[FR Doc. 03-6412 Filed 3-17-03; 8:45 am]

BILLING CODE 4510-30-P